DEPARTMENT OF TRANSPORTATION

Coast Guard

33 CFR Parts 100 and 165

[USCG-2001-9668]

Safety Zones, Security Zones, and Special Local Regulations

AGENCY: Coast Guard, DOT.

ACTION: Notice of temporary rules issued.

SUMMARY: This document provides required notice of substantive rules adopted by the Coast Guard and temporarily effective between January 1, 2001 and March 31, 2001 which were not published in the Federal Register. This quarterly notice lists temporary local regulations, security zones, and safety zones of limited duration and for which timely publication in the Federal Register was not possible.

DATES: This notice lists temporary Coast Guard regulations that became effective and were terminated between January 1, 2001 and March 31, 2001. This notice also lists three regulations that were effective and terminated between September and December, 2000.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice, contact Christena Green, Office of Regulations and Administrative Law, telephone (202) 267-0133. For questions on viewing, or on submitting material to the docket, contact Dorothy Beard, Chief, Dockets, Department of Transportation (202) 366-5149.

SUPPLEMENTARY INFORMATION: District Commanders and Captains of the Port (COTP) must be immediately responsive to the safety needs of the waters within their jurisdiction; therefore, District Commanders and COTPs have been delegated the authority to issue certain local regulations. Safety zones may be established for safety or environmental purposes. A safety zone may be stationary and described by fixed limits or it may be described as a zone around a vessel in motion. Security zones limit access to vessels, ports, or waterfront facilities to prevent injury or damage. Special local regulations are issued to enhance the safety or participants and spectators at regattas and other marine events. Timely publication of these regulations in the Federal Register is often precluded when a regulation responds to an emergency, or when an event occurs without sufficient advance notice. However, the affected public is informed of these regulations through Local Notices to Mariners, press releases, and other means. Moreover, actual notification is provided by Coast Guard patrol vessels enforcing the restrictions imposed by the regulation. Because mariners are notified by Coast Guard officials on-scene prior to enforcement action, Federal Register notice is not required to place the special local regulation, security zone, or safety zone in effect. However, the Coast Guard, by law, must publish in the Federal Register notice of substantive rules adopted. To meet this obligation without imposing undue expense on the public, the Coast Guard periodically publishes a list of these temporary special local regulations, security zones, and safety zones. Permanent regulations are not included in this list because they are published in their entirety in the Federal Register. Temporary regulations may also be published in their entirety if sufficient time is available to do so before they are placed in effect or terminated. The safety zones, special local regulations and security zones listed in this notice have been exempted from review under Executive Order 12866 because of their emergency nature, or limited scope and temporary effectiveness.

The following regulations were placed in effect temporarily during the period January 1, 2001 and March 31, 2001, unless otherwise indicated. This notice also includes 3 regulations that were not received in time to be included on the quarterly notices for the third and fourth quarters of 2000.

Dated: May 17, 2001.
S.G. Venckus,
Chief, Office of Regulations and Administrative Law.

District Quarterly Report
District Docket | Location | Type | Effective date
01-00-003 | Boston, MA | Safety Zone | 01/05/2001
01-01-005 | Boston, MA | Safety Zone | 01/13/2001
01-01-006 | Newport, RI | Safety Zone | 03/03/2001
01-01-007 | Boston, MA | Safety Zone | 01/18/2001
01-01-012 | Bath Iron Works, Bath, ME | Safety Zone | 02/11/2001
01-01-027 | USS Boone Port Visit, Newport, RI | Security Zone | 02/23/2001
01-01-029 | Narragansett Bay, Newport, RI | Safety Zone | 03/29/2001
01-01-035 | Boston, MA | Safety Zone | 03/16/2001
01-01-039 | USS De Wert Port Visit, Newport, RI | Safety Zone | 03/19/2001
01-01-042 | Portland, ME | Security Zone | 03/23/2001
01-01-044 | Port of NY/NY | Safety Zone | 03/24/2001
05-01-002 | Washington, DC | Safety Zone | 01/18/2001
09-01-007 | Hennepin Bridge, Hennepin, IL | Safety Zone | 03/22/2001
09-01-016 | Manitowoc, WI | Safety Zone | 03/17/2001
13-01-001 | Quillayute River, WA | Safety Zone | 02/02/2001

COTP Quarterly Report
COTP Docket | Location | Type | Effective Date
Charleston 01-010 | Charleston, SC | Safety Zone | 02/08/2001
Guam 01-001 | Outer APRA Harbor, Guam | Safety Zone | 01/24/2001
Guam 01-002 | North of Glass Breakwater, Guam | Safety Zone | 01/25/2001
Honolulu 01-002 | Hawaii, Kaiwi Channel, Pacific Ocean | Safety Zone | 02/24/2001
Honolulu 01-003 | Kaiwi, Hawaii | Security Zone | 03/20/2001
Honolulu 01-004 | Kawaii, Kaiwi Channel, Pacific Ocean | Safety Zone | 02/09/2001
Houston-Galveston 01-002 | Houston, TX | Safety Zone | 01/08/2001
Houston-Galveston 01-001 | Houston, TX | Safety Zone | 01/05/2001
Jacksonville 01-016 | Indian River, Cocoa, FL | Safety Zone | 02/24/2001
Jacksonville 01-018 | St. Johns River, Palatka, FL | Safety Zone | 03/03/2001
Jacksonville 01-021 | Cocoa Beach, FL | Safety Zone | 03/24/2001
LA/LB 01-001 | Queens Gate, Long Beach, CA | Safety Zone | 02/15/2001
Memphis 01-001 | Mississippi River, M. 727 to 729.5 | Safety Zone | 02/20/2001
Memphis 01-002 | Mississippi River, M. 532 to 525 | Safety Zone | 02/26/2001
Memphis 01-003 | Mississippi River, M. 532 to 525 | Safety Zone | 03/01/2001
Memphis 01-004 | Mississippi River, M. 555 to 550 | Safety Zone | 03/03/2001
Mobile 01-003 | Mobile River at Pier 3 AND 4 | Security Zone | 02/02/2001
Mobile 01-004 | Port of Gulfport, MS | Security Zone | 02/03/2001
New Orleans 01-002 | LWR Mississippi River, M 95 to 98 | Safety Zone | 02/14/2001
New Orleans 01-004 | LWR Mississippi River, M 95.5 | Security Zone | 02/21/2001
New Orleans 01-005 | LWR Mississippi River, M 95 to 96 | Safety Zone | 02/26/2001
New Orleans 01-006 | LWR Mississippi River, M 94 to 96 | Safety Zone | 03/11/2001
New Orleans 01-007 | LWR Mississippi River, M 94 to 96 | Safety Zone | 03/15/2001
San Diego 01-001 | Lake Havasu, Colorado River, AZ | Safety Zone | 03/03/2001
San Juan 01-006 | Guayanilla, Puerto Rico | Safety Zone | 02/05/2001
Savannah 01-022 | Savannah, GA | Security Zone | 03/14/2001
Savannah | Savannah, GA | Security Zone | 03/19/2001
Tampa 01-004 | Tampa Bay, FL | Safety Zone | 01/20/2001
Wilmington 01-001 | Wilmington, North Carolina | Safety Zone | 03/27/2001

Regulations Not on Previous 3rd and 4th Quarterly Report
District/COTP | Location | Type | Effective Date
Guam 00-31 | Kilo Wharf, APRA Harbor Guam | Safety Zone | 09/18/00
Guam 00-034 | Agat Bay, Guam | Safety Zone | 12/12/00
New Orleans 00-039 | LWR Mississippi | Safety Zone | 11/30/00

[FR Doc. 01-12976 Filed 4-22-01; 8:45 am]

BILLING CODE 4910-15-M